DEPARTMENT OF THE INTERIOR

Bureau of Land Management

[WO-310-1310-PB-241A]

Extension of Approved Information Collection. OMB Control Number 1004-0034

AGENCY: Bureau of Land Management, Interior.

ACTION: Notice and request for comments.

SUMMARY: In accordance with the paperwork Reduction Act of 1995, the Bureau of Land Management (BLM) is requesting the office of Management and Budget (OMB) to extend an existing approval to collect certain information from those persons who wish to transfer interest in oil and gas or geothermal leases by assignment of record title or transfer operating rights (sublease) in oil and gas or geothermal leases under the terms of the mineral leasing laws. BLM uses Form 3000-3, Assignment of Record Title Interest In A Lease for Oil and Gas or Geothermal Resources, and Form 3000-3a, Transfer of Operating Rights (Sublease) In A Lease for Oil and Gas or Geothermal Resources, to collect this information. This information allows the BLM to transfer interest in oil and gas or geothermal leases by assignment of record title or transfer operating rights (sublease) in oil and gas or geothermal leases under the regulations at 43 CFR 3106, 3135, and 3216.

DATES: You must submit your comments to BLM at the address below on or before April 8, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0034” and your name and return address in your Internet message.

You may deliver comments to the Bureau of Land Management, Administrative Record, Room 401, 1620 L Street, NW, Washington, DC.

All comments will be available for public review at the L Street address during regular business hours (7:45 a.m. to 4:15 p.m.), Monday through Friday.

FOR FURTHER INFORMATION CONTACT: You may contact Barbara Gamble on (202) 452-0338 (Commercial or FTS). persons who use a telecommunications device for the deaf (TDD) may call the Federal Information Relay Service at 1-800-877-8330, 24 hours a day, seven days a week, to contact Ms. Gamble.

SUPPLEMENTARY INFORMATION: 5 CFR 1320.12(a) requires BLM to provide 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Mineral Leasing Act of 1920 (30 U.S.C. 181 et seq.) and the Geothermal Steam Act of 1970 (30 U.S.C. 1001-1025) authorize the Secretary of the Interior to issue leases for development of Federal oil and gas and geothermal resources. The Act of August 7, 1947 (Mineral Leasing Act of Acquired Lands) authorizes the Secretary to lease lands acquired by the United States (30 U.S.C. 341-359). The Department of the Interior Appropriations Act of 1981 (42 U.S.C. 6508) provides for the competitive leasing of lands for oil and gas in the National Petroleum Reserve-Alaska (NPRA). The Attorney General's Opinion of April 2, 1941 (40 Opinion of Attorney General 41) provides the basis under which the Secretary issues certain leases for lands being drained of mineral resources. The Federal Property and Administrative Services Act of 1949 (40 U.S.C. 471 et seq.) provides the authority for leasing lands acquired from the General Services Administration.

Assignor/transferor submits Form 3000-3, Assignment of Record Title Interest In A lease for Oil and Gas or Geothermal Resources, and Form 3000-3A, Transfer of Operating Rights (Sublease) In A Lease for Oil and Gas or Geothermal Resources, to transfer interest in oil and gas or geothermal leases by assignment of record title or transfer operating rights (sublease) in oil and gas or geothermal leases under the regulations at 43 CFR 3106, 3135, and 3216. These regulations outline the procedures for assigning record title interest and transferring operating rights in a lease to explore for, develop, and produce oil and gas and geothermal resources.

The assignor/transferor provides the required information to comply with the regulations in order to process the assignments of record title interest or transfer of operating rights (sublease) in a lease for oil and gas or geothermal resources. The assignor/transferor submits the required information to BLM for approval under 30 U.S.C. 187a and the regulations at 43 CFR 3106, 3135, and 3216.

BLM uses the information submitted by the assignor/transferor to identify the interest ownership that is assigned or transferred and the qualifications of the assignor/transferee. BLM determines if the assignor/transferee is qualified to obtain the interest sought and ensures the assignor/transferee does not exceed statutory acreage limitations.

Based on BLM's experience administering the activities described above, we estimate it takes 30 minutes per response to complete the required information. The respondents include individuals, small businesses, and large corporations. The frequency of response is annual. We estimate 60,000 responses per year and a total annual burden of 30,000 hours.

BLM will summarize all responses to this notice and include them in the request for OMB approval. All comments will become a matter of public record.

Dated: February 3, 2003.
Michael H. Schwartz,
Bureau of Land Management, Information Collection Clearance Officer.

[FR Doc. 03-3012 Filed 2-6-03; 8:45 am]

BILLING CODE 4310-84-M